ENVIRONMENTAL PROTECTION AGENCY

40 CFR Part 52

[EPA-R07-OAR-2015-0159; FRL-9925-59-Region 7]

Approval and Promulgation of Implementation Plans; State of Iowa; 2015 Iowa State Implementation Plan; Permit Modifications; Muscatine, Iowa

AGENCY: Environmental Protection Agency.

ACTION: Proposed rule.

SUMMARY: The Environmental Protection Agency (EPA) is proposing to approve revisions to the State Implementation Plan (SIP) for the State of Iowa to include modified permits for Muscatine County, Iowa. The SIP revision addresses modifications to construction permits that were included in the 2006 24-hour particulate matter less than 2.5 micrometers (PM2.5) National Ambient Air Quality Standards (NAAQS) control strategy proposed on August 11, 2014, and published as a final rule in the Federal Register on December 1, 2014, with the effective date of December 31, 2014. The state's submission of modified permits includes a revised air dispersion modeling analysis that demonstrated continued attainment of the 2006 24-hour PM2.5 NAAQS. This action will also make an administrative correction to permit numbers.

DATES: Comments on this proposed action must be received in writing by May 4, 2015.

ADDRESSES: Submit your comments, identified by Docket ID No. EPA-R07-OAR-2015-0159 by mail to: Heather Hamilton, Environmental Protection Agency, Air Planning and Development Branch, 11201 Renner Road, Lenexa, Kansas 66219. Comments may also be submitted electronically or through hand delivery/courier by following the detailed instructions in the ADDRESSES section of the direct final rule located in the rules section of this Federal Register.

FOR FURTHER INFORMATION CONTACT: Heather Hamilton (913) 551-7039, or by email at Hamilton.heather@epa.gov.

SUPPLEMENTARY INFORMATION: In the final rules section of the Federal Register, EPA is approving the state's revision to the SIP as a direct final rule without prior proposal because the Agency views this as a noncontroversial revision amendment and anticipates no relevant adverse comments to this action. The detailed rationale for the approval is set forth in the technical support document that can be found in Docket ID No. EPA-R07-OAR-2015-0159. If no relevant adverse comments are received in response to this action, no further activity is contemplated in relation to this action. If EPA receives relevant adverse comments, the direct final rule will be withdrawn and all public comments received will be addressed in a subsequent final rules based on this proposed action. EPA will not institute a second comment period on this action. Any parties interested in commenting on this action should do so at this time. Please note that if EPA receives adverse comments on part of this rule and if that part can be severed from the remainder of the rule, EPA may adopt as final those parts of the rule that are not the subject of an adverse comment. For additional information, see the direct final rule which is located in the rules section of this Federal Register.

List of Subjects in 40 CFR Part 52

Environmental protection, Air pollution control, Carbon monoxide, Incorporation by reference, Intergovernmental relations, Particulate matter, Reporting and recordkeeping requirements.

Dated: March 20, 2015.
Mark Hague,
Acting Regional Administrator, Region 7.

[FR Doc. 2015-07489 Filed 4-2-15; 8:45 am]

BILLING CODE 6560-50-P